DEPARTMENT OF THE INTERIOR

National Park Service

60-Day Notice of Intention To Request Clearance of Collection of Information; Opportunity for Public Comment

AGENCY: National Park Service, The Department of Interior.

ACTION: Notice of intended submission to the Office of Management and Budget (OMB) and request for comments.

SUMMARY: Under the provisions of the Paperwork Reduction Act of 1995 (44 U.S.C. 3507 et seq.) and 5 CFR part 1320, the National Park Service (NPS) invites comments on its intention to request OMB to approve information collections associated with the “ Save America's Treasures” (SAT) grant program. These collections are in use without an OMB control number. Section 108 of the National Historic Preservation Act, as amended, (16 U.S.C. 470h) created the Historic Preservation Fund (HPF) to carry out the purposes of the Act. Each year Congress directs NPS to use part of the annual appropriation from the HPF for the “Save America's Treasures” grant program. The purpose of the SAT grant program is to assist in the preservation and conservation of nationally significant cultural artifacts and nationally significant historic structures and sites.

DATES: To assure that the NPS considers your comments on this notice, NPS must receive the comments on or before March 9, 2004.

Send Comments to: John W. Renaud, Project Coordinator, State, Tribal and Local Programs, Heritage Preservation Services, National Center for Cultural Resources, National Center for Cultural Resources, National Park Service, 1849 C St., NW., Org. Code 2255, Washington, DC 20240-0001, via fax at (202) 371-1961, or via e-mail at John_Renaud@nps.gov

FOR FURTHER INFORMATION CONTACT: John W. Renaud, Project Coordinator, State, Tribal and Local Programs, Heritage Preservation Services, National Center for Cultural Resources, National Park Service, 1849 C St., NW., Org. Code 2255 Washington, DC 20240-0001, via fax at (202) 371-1961, via e-mail at John_Renaud@nps.gov, or via telephone at (202) 354-2066.

SUPPLEMENTARY INFORMATION: Title: “Save America's Treasures” grants.

OMB Number: 1024-xxxx.

Expiration Date of Approval: Being requested from OMB.

Type of Request: Existing collection in use without an OMB control number.

Abstract: This information collection has an impact on State, tribal, and local governments; eligible Federal agencies; and not-for-profit institutions that wish to apply for Historic Preservation Fund supported “Save America's Treasures” grants. Only Federal agencies that “the Department of the Interior and Related Agencies Appropriations Act” funds are eligible to apply for SAT grants. Each year Congress earmarks certain projects for funding and sets aside an additional pool of funds for competitive grants. Each year some of the SAT grant-supported projects are for cultural artifacts and some are for historic structures and sites. The National Park Service uses the information collections to ensure compliance with the requirements that each appropriations act specifies (Pub. L. 108-108 is the most recent) as well as the government-wide grant requirements that OMB has issued and the Department of the Interior implements through 43 CFR part 12. This information collection also will produce performance data that NPS uses to assess its progress in meeting goals set in Departmental and NPS strategic plans created pursuant to the 1993 Government Performance and Results Act, as amended.

Respondents: State, local, and tribal governments; not for profit institutions; and certain Federal agencies.

Estimate of Burden: NPS estimates that the public burden for the HPF-supported SAT grant program collections of information will average 52 hours per application and 43 hours per grant per year for all of the grant-related collections. The combined total public burden for the SAT grant program-related information collections would average 95 hours per successful applicant/grantee. These estimates of burden include time for reviewing instructions, searching existing data sources, gathering and maintaining the data needed, and reviewing the collection of information.

Estimated Number of Respondents/Record Keepers: NPS estimates that there are 2,045 responses per year. This is the gross number of responses for all of the elements included in this information collection. The net numbers of applicants and grantees participating in this information collection annually are 571 applicants and from among them 140 grantees. The frequency of response varies depending upon the activity. Applicants complete the grant application once. Successful applicants execute the grant agreement once. Successful applicants for historic structures or sites projects also complete execute an easement or covenant once. During the grant cycle, grantees seek NPS approval once for qualified consultants, plans and specifications, and the final report. Grantees usually seek NPS approval of an amendment once during the two-year cycle. Throughout the duration of the grant, grantees comply with Section 106 of the National Historic Preservation Act, as amended (16 U.S.C. 470f) as well as government-wide record-keeping requirements. Grantees provide two interim reports per year and usually make requests for payment four times a year.

Estimated average number of Applicant responses: 571 annually.

Estimated average gross number of Grantee responses: 1,474 annually.

Estimated average gross number of responses: 2,045 annually.

Estimated average burden hours per Applicant response: 52 hours.

Estimated average burden hours per Grantee response: 4 hours.

Estimated average annual burden hours per Grantee for all responses: 43 hours.

Estimated total annual burden hours per respondent: 95 hours.

Estimated Annual Burden on all Respondents: 35,061 hours.

NPS is soliciting comments regarding:

(1) Whether the collection of information is necessary for the proper performance of the functions of NPS, including whether the information will have practical utility;

(2) The accuracy of the burden estimate including the validity of the method and assumptions used;

(3) Ways to enhance the quality, utility, and clarity of the information to be collected;

(4) Ways to minimize the burden of collecting the information, including through the use of appropriate automated, electronic, mechanical, or other forms of information technology; or,

(5) Any other aspect of this collection of information.

NPS will summarize and include in the request for OMB approval all responses to this notice. All comments will also become a matter of public record. You can obtain copies of the information collection from John W. Renaud, Project Coordinator, State, Tribal and Local Programs, Heritage Preservation Services, National Center for Cultural Resources, National Park Service, 1849 C St., NW., Org. Code 2255, Washington, DC 20240-0001.

Dated: December 4, 2003.
Leonard E. Stowe,
Acting Information Collection Clearance Officer, National Park Service, WAPC.

[FR Doc. 04-407 Filed 1-8-04; 8:45 am]

BILLING CODE 4310-50-M